NUCLEAR REGULATORY COMMISSION

10 CFR Part 72

[NRC-2010-0140]

RIN 3150-AI86

List of Approved Spent Fuel Storage Casks: MAGNASTOR System, Revision 1, Confirmation of Effective Date

AGENCY: Nuclear Regulatory Commission.

ACTION: Direct final rule: Confirmation of effective date.

SUMMARY: The Nuclear Regulatory Commission (NRC) is confirming the effective date of August 30, 2010, for the direct final rule that was published in the Federal Register on June 15, 2010 (75 FR 33678). This direct final rule amended the NRC's spent fuel storage regulations at 10 CFR 72.214 to revise the MAGNASTOR System listing to include Amendment Number 1 to Certificate of Compliance (CoC) Number 1031.

DATES: Effective Date: The effective date of August 30, 2010, is confirmed for this direct final rule.

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail Jayne.McCausland@nrc.gov.

SUPPLEMENTARY INFORMATION: On June 15, 2010 (75 FR 33678), the NRC published a direct final rule amending its regulations at 10 CFR 72.214 to include Amendment No. 1 to CoC Number 1031. Amendment No. 1 changes Technical Specifications (TS) related to neutron absorber qualification and acceptance testing. Specifically, the amendment revises TS 4.1.1.b and incorporates by reference, into the MAGNASTOR CoC, Sections 10.1.6.4.5, 10.1.6.4.6, 10.1.6.4.7, and 10.1.6.4.8 of the Final Safety Analysis Report regarding the acceptance testing of borated aluminum alloy and borated metal matrix composite neutron absorber material. The amendment also includes other changes in Appendices A and B of the TS to incorporate minor editorial corrections. In the direct final rule, NRC stated that if no significant adverse comments were received, the direct final rule would become final on August 30, 2010. The NRC did not receive any comments on the direct final rule. Therefore, this rule will become effective as scheduled.

Dated at Rockville, Maryland, this 10th day of August 2010.
For the Nuclear Regulatory Commission.
Cindy Bladey,
Chief, Rules, Announcements, and Directives Branch,Division of Administrative Services, Office of Administration.

[FR Doc. 2010-20172 Filed 8-13-10; 8:45 am]

BILLING CODE 7590-01-P